DEPARTMENT OF COMMERCE

National Institute of Standards and Technology

Notice of Public Workshop: “Designing for Impact: Workshop on Building the National Network for Manufacturing Innovation”

AGENCY: Advanced Manufacturing National Program Office, National Institute of Standards and Technology, Department of Commerce.

ACTION: Notice.

SUMMARY: The Advanced Manufacturing National Program Office (AMNPO), housed at the National Institute of Standards and Technology (NIST), announces the first of a series of public workshops entitled “Designing for Impact: Workshop on Building the National Network for Manufacturing Innovation.” The workshops will provide a forum for the AMPNO to introduce the National Network for Manufacturing Innovation (NNMI) and its regional components, Institutes for Manufacturing Innovation (IMIs). The workshops will also provide a forum for public discussion of this new initiative, which President Obama announced on March 9, 2012. The discussion will focus on the following topics: Technologies with Broad Impact, Institute Structure and Governance, Strategies for Sustainable Institute Operations, and Education and Workforce Development.

DATES: The public workshop will be held on Wednesday, April 25, 2012 from 8 a.m. until 3 p.m. Eastern time. On-line registration for the workshop will close at 5 p.m. Eastern time on Friday, April 20, 2012.

ADDRESSES: The public workshop will be held at The Curtis R. Priem Experimental Media and Performing Arts Center (EMPAC); Rensselaer Polytechnic Institute, Troy, NY, 12180. EMPAC is located at the corner of 8th Street and College Avenue, in Troy, NY. Members of the public wishing to attend the public workshop may register online at: http://events.energetics.com/AMNPOimpact.

FOR FURTHER INFORMATION CONTACT: Dr. Michael Schen at 301-975-6741 or by email at michael.schen@nist.gov; or Jacqueline Calhoun at 301-975-2555 or by email at jacqueline.calhoun@nist.gov. Additional information may be found at: See http://www.manufacturing.gov/amp/event_042512.html for further details.

SUPPLEMENTARY INFORMATION:

Legal Authority: 15 U.S.C. 272(b)(1).

The proposed NNMI initiative focuses on strengthening and ensuring the long-term competitiveness and job-creating power of U.S. manufacturing. The constituent IMIs will bring together industry, universities and community colleges, federal agencies, and U.S. states to accelerate innovation by investing in industrially-relevant manufacturing technologies with broad applications to bridge the gap between basic research and product development, provide shared assets to help companies—particularly small manufacturers—access cutting-edge capabilities and equipment, and create an unparalleled environment to educate and train students and workers in advanced manufacturing skills. The President's proposed FY 2013 budget includes $1 billion for this proposed initiative.

Each IMI will serve as a regional hub of manufacturing excellence, providing the innovation infrastructure to support regional manufacturing and ensuring that our manufacturing sector is a key pillar in an economy that is built to last. Each IMI also will have a well-defined technology focus to address industrially-relevant manufacturing challenges on a large scale and to provide the capabilities and facilities required to reduce the cost and risk of commercializing new technologies.

In his announcement, President Obama proposed building a national network consisting of up to 15 IMIs.

Individuals planning to attend the public workshop must preregister. See registration information in the DATES and ADDRESSES sections above.

See the link below for the announcements of additional workshops:

See http://www.manufacturing.gov/amp/ampevents.html.

Future workshops will also be announced in the Federal Register.

In the near future, the AMNPO plans to issue a Request for Information (RFI), seeking public comment on specific questions related to the structure and operations of the NNMI and IMIs. The RFI will be published in the Federal Register.

Dated: March 28, 2012.
Phillip Singerman,
Associate Director for Innovation and Industry Services.

[FR Doc. 2012-7981 Filed 4-2-12; 8:45 am]

BILLING CODE 3510-13-P